DEPARTMENT OF ENERGY

Office of Energy Efficiency and Renewable Energy

Energy Conservation Program for Consumer Products: Publication of the Petition for Waiver and Granting of the Application for Interim Waiver of Mitsubishi Electric From the DOE Commercial Water Source Heat Pump Test Procedure [Case No. CAC-015]

AGENCY: Office of Energy Efficiency and Renewable Energy, Department of Energy.

ACTION: Notice of petition for waiver, granting of application for interim waiver, and request for comments.

SUMMARY: Today's notice publishes a Petition for Waiver from Mitsubishi Electric and Electronics USA, Inc. (MEUS). This Petition for Waiver (hereafter “MEUS Petition”) requests a waiver of the Department of Energy (“DOE”) test procedures applicable to commercial package water source heat pumps. DOE is soliciting comments, data, and information with respect to the MEUS Petition. Today's notice also grants an Interim Waiver to MEUS, with an alternate test procedure, from the existing DOE test procedure applicable to commercial package water source heat pumps.

DATES: DOE will accept comments, data, and information regarding this Petition for Waiver until, but no later than May 9, 2007.

ADDRESSES: Please submit comments, identified by case number [CAC-015], by any of the following methods:

• Mail: Ms. Brenda Edwards-Jones, U.S. Department of Energy, Building Technologies Program, Mailstop EE-2J, Forrestal Building, 1000 Independence Avenue, SW., Washington, DC 20585-0121. Telephone: (202) 586-2945. Please submit one signed original paper copy.

• Hand Delivery/Courier: Ms. Brenda Edwards-Jones, U.S. Department of Energy, Building Technologies Program, Room 1J-018, Forrestal Building, 1000 Independence Avenue, SW., Washington, DC 20585-0121.

• E-mail: Michael.raymond@ee.doe.gov. Include either the case number [CAC-015], and/or “MEUS Petition” in the subject line of the message.

• Federal eRulemaking Portal: http://www.regulations.gov. Follow the instructions for submitting comments.

Instructions: All submissions received must include the agency name and case number for this proceeding. Submit electronic comments in WordPerfect, Microsoft Word, PDF, or text (ASCII) file format and avoid the use of special characters or any form of encryption. Wherever possible, include the electronic signature of the author. Absent an electronic signature, comments submitted electronically must be followed and authenticated by submitting the signed original paper document. DOE does not accept telefacsimiles (faxes). Any person submitting written comments must also send a copy of such comments to the petitioner. 10 CFR 431.401(d)(2). The name and address of the petitioner of today's notice is: William Rau, Senior Vice President and General Manager, HVAC Advanced Products Division, Mitsubishi Electric & Electronics USA, Inc., 4300 Lawrenceville-Suwanee Road, Suwanee, GA 30024.

According to 10 CFR 1004.11, any person submitting information that he or she believes to be confidential and exempt by law from public disclosure should submit two copies: one copy of the document including all the information believed to be confidential, and one copy of the document with the information believed to be confidential deleted. DOE will make its own determination about the confidential status of the information and treat it according to its determination.

Docket: For access to the docket to read the background documents relevant to this matter, go to the U.S. Department of Energy, Forrestal Building, Room 1J-018 (Resource Room of the Building Technologies Program), 1000 Independence Avenue, SW., Washington, DC, (202) 586-2945, between 9 a.m. and 4 p.m., Monday through Friday, except Federal holidays. Available documents include the following items: this notice; public comments received; the Petition for Waiver and Application for Interim Waiver; prior Department rulemakings regarding commercial central air conditioners and heat pumps; the prior MEUS Petition for Waiver, DOE's notice of the prior MEUS Petition for Waiver and the DOE Decision and Order (D&O) regarding the prior MEUS Petition, which is being published today. Please call Ms. Brenda Edwards-Jones at the above telephone number for additional information regarding visiting the Resource Room. Please note: DOE's Freedom of Information Reading Room (formerly Room 1E-190 at the Forrestal Building) is no longer housing rulemaking materials.

FOR FURTHER INFORMATION CONTACT: Dr. Michael G. Raymond, U.S. Department of Energy, Office of Energy Efficiency and Renewable Energy, Building Technologies Program, Mail Stop EE-2J, Forrestal Building, 1000 Independence Avenue, SW., Washington, DC 20585-0121, (202) 586-9611; e-mail: Michael.Raymond.ee.doe.gov; or Francine Pinto, Esq., U.S. Department of Energy, Office of General Counsel, Mail Stop GC-72, Forrestal Building, 1000 Independence Avenue, SW., Washington, DC 20585-0103, (202) 586-9507; e-mail: Francine.Pinto@hq.doe.gov.

SUPPLEMENTARY INFORMATION:

I. Background and Authority

II. Petition for Waiver

III. Application for Interim Waiver

IV. Alternate Test Procedure

V. Summary and Request for Comments

I. Background and Authority

Title III of the Energy Policy and Conservation Act (EPCA) sets forth a variety of provisions concerning energy efficiency. Part B of Title III (42 U.S.C. 6291-6309) provides for the ”Energy Conservation Program for Consumer Products other than Automobiles.” Part C of Title III (42 U.S.C. 6311-6317) provides for an energy efficiency program entitled ”Certain Industrial Equipment,” which is similar to the program in Part B, and which includes commercial air conditioning equipment, packaged boilers, water heaters, and other types of commercial equipment.

Today's notice involves commercial equipment under Part C. Part C provides for definitions, test procedures, labeling provisions, energy conservation standards, and the authority to require information and reports from manufacturers. With respect to test procedures, it generally authorizes the Secretary of Energy to prescribe test procedures that are reasonably designed to produce results which reflect energy efficiency, energy use and estimated operating costs, and that are not unduly burdensome to conduct. (42 U.S.C. 6314(a)(2))

MEUS's petition requests a waiver from the commercial test procedures for water source models of its CITY MULTI Variable Refrigerant Flow Zoning (VRFZ) heat pump product line, which are sold for commercial use.

For commercial package air conditioning and heating equipment, EPCA provides that the test procedures shall be those generally accepted industry testing procedures or rating procedures developed or recognized by the Air-Conditioning and Refrigeration Institute (ARI) or by the American Society of Heating, Refrigerating and Air Conditioning Engineers (ASHRAE), as referenced in ASHRAE/IES Standard 90.1 and in effect on June 30, 1992. (42 U.S.C. 6314(a)(4)(A)) This section also provides for the Secretary of Energy to amend the test procedure for a product if the industry test procedure is amended, unless the Secretary determines that such a modified test procedure does not meet the statutory criteria. (42 U.S.C. 6314(a)(4)(B))

On October 21, 2004, DOE published a direct final rule adopting test procedures for commercial package air conditioning and heating equipment, effective December 20, 2004. 69 FR 61962, October 21, 2004. DOE adopted ISO Standard 13256-1, “Water-source heat pumps—Testing and rating for performance—Part 1: Water-to-air and brine-to-air heat pumps” for small commercial package water source heat pumps with capacities < 135,000 Btu/hr. 69 FR 61971. The capacities of MEUS's water source CITY MULTI VRFZ products sold for commercial use fall in the range from 65,000 to 135,000 Btu/hr, which is the range covered by the DOE test procedure, and ISO Standard 13256-1.

DOE's regulations contain provisions allowing a person to seek a waiver from the test procedure requirements for covered commercial equipment. The waiver provisions for commercial equipment are found at 10 CFR 431.401, and are substantively identical to those for covered consumer products.

The waiver provisions allow the Assistant Secretary for Energy Efficiency and Renewable Energy (hereafter “Assistant Secretary”) to temporarily waive test procedures for a particular basic model when a petitioner shows that the basic model contains one or more design characteristics that prevent testing according to the prescribed test procedures, or when the prescribed test procedures may evaluate the basic model in a manner so unrepresentative of its true energy consumption as to provide materially inaccurate comparative data. 10 CFR 431.401(a)(1). The Assistant Secretary may grant the waiver subject to conditions, including adherence to alternate test procedures. 10 CFR 431.401(e)(4) and (f)(4). Petitioners are to include in their petition any alternate test procedures known to evaluate the basic model in a manner representative of its energy consumption. 10 CFR 431.401(b)(1)(iii). Waivers generally remain in effect until final test procedure amendments become effective, thereby resolving the problem that is the subject of the waiver.

The waiver process also allows the Assistant Secretary to grant an Interim Waiver from test procedure requirements to manufacturers that have petitioned DOE for a waiver of such prescribed test procedures. 10 CFR 431.401(a)(2). An Interim Waiver remains in effect for a period of 180 days or until DOE issues its determination on the Petition for Waiver, whichever is sooner, and may be extended for an additional 180 days, if necessary. 10 CFR 431.401(e)(4).

II. Petition for Waiver

On October 30, 2006, MEUS filed an Application for Interim Waiver and a Petition for Waiver from the test procedures applicable to commercial package water source heat pumps. In particular, MEUS requested a waiver from ISO Standard 13256-1, the commercial test procedure incorporated by reference that is the DOE test procedure. DOE has previously granted a waiver and an interim waiver from the applicable air conditioner and heat pump test procedures for other models of MEUS's CITY MULTI products. On August 27, 2004, DOE granted a waiver from the commercial air conditioner and heat pump test procedures for MEUS's R22 CITY MULTI products, i.e., air-source CITY MULTI products using R22 as the refrigerant.¹ In March 2006, DOE granted MEUS's application for interim waiver and published MEUS's petition for waiver for its R410A CITY MULTI models, i.e., air-source CITY MULTI products using R410A as the refrigerant.²

¹ Energy Conservation Program for Consumer Products: Decision and Order Granting a Waiver From the DOE Commercial Package Air Conditioner and Heat Pump Test Procedure to Mitsubishi Electric (Case No. CAC-008), 69 FR 52660 (Aug. 27, 2004).

² Energy Conservation Program for Consumer Products: Publication of the Petition for Waiver and Granting of the Application for Interim Waiver of Mitsubishi Electric From the DOE Residential and Commercial Package Air Conditioner and Heat Pump Test Procedures (Case No. CAC-012), 71 FR 14858 (Mar. 24, 2006). On August 8, 2006, DOE published a notice correcting five of the model numbers in the interim waiver granted to MEUS and listed in MEUS's petition for waiver. Energy Conservation Program for Consumer Products: Notice of Correction of Petition for Waiver and Interim Waiver of Mitsubishi Electric From the DOE Residential and Commercial Package Air Conditioner and Heat Pump Test Procedures, and Modification of Interim Waiver, 71 FR 45047 (Aug. 8, 2006).

The products covered by this petition represent the models of the CITY MULTI product line that use water, as opposed to air, as a heat source and heat sink.³ MEUS claims that its water source models cannot be tested pursuant to the existing test procedure for the same reasons that its R22 models were previously granted a waiver by DOE. The only difference between the WR2 and WY products and the air source R22 and R410A products is the method of heat rejection. The WR2 and WY products have a heat source unit that uses water, instead of air, to reject heat. The indoor models, CITY MULTI Control Network, and system technology of the R22 and R410A products and the WR2 and WY models are identical. As a result, these products will face the same testing problems as MEUS's R22 and R410A CITY MULTI products.

³ Like the current line of air source CITY MULTI products, the water-source WR2 and WY model lines use R410A as the refrigerant.

MEUS's line of CITY MULTI VRFZ system products are complete, commercial zoning systems that use variable refrigerant control and distribution, zoning diversity, and system intelligence. The WR2 and WY systems have the capability of connecting a single heat source unit to up to 19 indoor units. This capability gives these systems millions of potential system combinations.⁴

⁴ MEUS offers 58 indoor models in its WR2/WY CITY MULTI product line. The number of potential combinations of the 58 models in sets of up to 19 is an astronomical figure.

The operating characteristics of a VRFZ system allow each indoor unit to have a different mode of operation (i.e., on/off/heat/cool/dry/auto/fan) and a different set temperature. In the WR2 and WY models, the variable speed compressor and the system controls direct refrigerant flow throughout the system to match the performance of the system to the load of the conditioned areas. The compressor is capable of reducing its operating capacity to as little as 16 percent of its rated capacity. Zone diversity enables these VRFZ systems to have a total connected indoor unit capacity of up to 150 percent of the capacity of the heat source unit.

The CITY MULTI VRFZ systems have variable frequency inverter driven scroll compressors, and, therefore, have nearly infinite steps of capacity. While other system compressors run at full load as their normal state, the CITY MULTI VRFZ systems run at part-load[MR7] as their normal state. The WR2 Series CITY MULTI products also offer consumers the option of simultaneous heating and cooling. These simultaneous heating and cooling systems achieve energy benefits by transferring heat recovered from one zone into another zone needing heat.

The MEUS petition requests that DOE grant a waiver from existing test procedures until such time as a representative test procedure is developed and adopted for this class of products. MEUS requested that DOE apply an alternate test procedure based on the DOE alternate test procedure specified in the Decision & Order concerning MEUS' R410A CITY MULTI VRFZ products.

III. Application for Interim Waiver

MEUS also requested an Interim Waiver to allow it to introduce its new water source products in the U.S. market while DOE evaluates the Petition for Waiver. An Interim Waiver may be granted if it is determined that the applicant will experience economic hardship if the Application for Interim Waiver is denied, if it appears likely that the Petition for Waiver will be granted, and/or the Assistant Secretary determines that it would be desirable for public policy reasons to grant immediate relief pending a determination on the Petition for Waiver. 10 CFR 431.401(e)(3).

MEUS's Application for Interim Waiver does not provide sufficient information to evaluate what, if any, economic hardship MEUS will likely experience if its Application for Interim Waiver is denied. However, in those instances where the likely success of the Petition for Waiver has been demonstrated, based upon DOE having granted a waiver for a similar product design, it is in the public interest to have similar products tested and rated for energy consumption on a comparable basis. MEUS's water source CITY MULTI VRFZ products are similar to the MEUS products previously granted a waiver, MEUS's R22 CITY MULTI VRFZ products (the indoor units are the same in both lines). 69 FR 52660. The previous MEUS waiver was granted because MEUS's R22 products cannot be tested according to the prescribed test procedures, for two reasons: (1) Test laboratories cannot test products with so many indoor units (the WR2 and WY CITY MULTI VRFZ systems can connect an outdoor unit with up to 19 indoor units); and (2) there are too many possible combinations of indoor and outdoor units (MEUS offers 58 indoor unit models, allowing for well over 1,000,000 combinations for each outdoor unit), and it is impractical to test so many combinations. The same argument, with the same two reasons, applies equally to show that MEUS' water source CITY MULTI VRFZ products cannot be tested according to the prescribed test procedures. These identical testing problems make it likely that MEUS' Petition for Waiver will be granted. Therefore, MEUS's Application for an Interim Waiver from DOE test procedure for its new WR2 and WY water source CITY MULTI VRFZ systems is granted. The letter to MEUS granting the Interim Waiver specifies that MEUS must use the alternate test procedure proposed in today's Notice. Hence, it is ordered that:

The Application for Interim Waiver filed by MEUS is hereby granted for MEUS's new WR2 and WY water source CITY MULTI VRFZ central air conditioning heat pumps. For the below listed models:

(1) MEUS shall not be required to test or rate its water source CITY MULTI VRFZ products on the basis of the currently applicable test procedure, which incorporates by reference ISO 13256-1 (1998).

(2) MEUS shall be required to test and rate its water source CITY MULTI VFRZ products according to the alternate test procedure as set forth in section IV (3), “Alternate test procedure.”

CITY MULTI Variable Refrigerant Flow Zoning System WR2-Series Heat Source Units:

• PQRY-P72TGMU-*, 72,000 Btu/h 208/230-3-60 split-system variable-speed heat pump

• PQRY-P96TGMU-*, 96,000 Btu/h 208/230-3-60 split-system variable-speed heat pump

CITY MULTI Variable Refrigerant Flow Zoning System WY-Series Heat Source Units:

• PQHY-P72TGMU-*, 72,000 Btu/h 208/230-3-60 split-system variable-speed heat pump

• PQHY-P96TGMU-*, 96,000 Btu/h 208/230-3-60 split-system variable-speed heat pump

CITY MULTI Variable Refrigerant Flow Zoning System Indoor Equipment:

• P*FY models, ranging from 6,000 to 96,000 Btu/h, 208/230-1-60 split-system variable-capacity heat pump.

• PCFY Series—Ceiling Suspended—PCFY-P12/18/24/30/36***-*

• PDFY Series—Ceiling Concealed Ducted—PDFY-P06/08/12/15/18/24/30/36/48***-*

• PEFY Series—Ceiling Concealed Ducted (Low Profile)—PEFY-P06/08/12***-*

• PEFY Series—Ceiling Concealed Ducted (Alternate High Static Option)—PEFY-P15/18/24/27/30/36/48/54/72/96***-*

• PEFY-F Series—Ceiling Concealed Ducted (100% Outside Air Ventilation Option)—PEFY-P 30/54/72/96***-*-*

• PFFY Series—Floor Standing (Concealed)—PFFY-P06/08/12/15/18/24***-*

• PFFY Series—Floor Standing (Exposed)—PFFY-P06/08/12/15/18/24***-*

• PKFY Series—Wall-Mounted—PKFY-P06/08/12/18/24/30***-*

• PLFY Series—4-Way Airflow Ceiling Cassette—PLFY-P12/18/24/30/36***-*

• PMFY Series—1-Way Airflow Ceiling Cassette—PMFY-P06/08/12/15***-*

This Interim Waiver is conditioned upon the presumed validity of statements, representations, and documentary materials provided by the petitioner. This Interim Waiver may be revoked or modified at any time upon a determination that the factual basis underlying the petition is incorrect, or DOE determines that the results from the alternate test procedure are unrepresentative of the basic models' true energy consumption characteristics. This Interim Waiver shall remain in effect for a period of 180 days or until DOE acts on the Petition for Waiver, whichever is sooner, and may be extended for an additional 180-day period, if necessary. 10 CFR 431.401(e)(4).

IV. Alternate Test Procedure

Consistent representations are important for manufacturers to make claims about the energy efficiency of their products. In response to MEUS's petition for waiver for the R410A products, today, DOE is also publishing an alternate test procedure to provide a basis upon which MEUS can test its equipment and make valid energy efficiency representations. DOE[MR9] will consider applying a similar alternate test procedure for MEUS's WR2 and WY products in order to allow MEUS to test and make energy efficiency representations regarding these comparable products.

As noted above, existing testing facilities have a limited ability to test multiple indoor units at one time, and the number of possible combination of indoor and outdoor units for some variable refrigerant zoning systems is impractical to test. Subsequent to the waiver that DOE granted for MEUS's R22 models, ARI developed a committee to discuss the issue and work on developing an appropriate test protocol for variable refrigerant zoning systems. However, to date, no additional test methodologies have been adopted by the committee or put forth to DOE.

DOE believes that an alternate test procedure is needed so that manufacturers can make representations for their products. DOE specified an alternate test procedure in the MEUS waiver for R410A CITY MULTI products, and is proposing to include the following similar waiver language in the final Decision and Order for the water source models:

“(1) The Petition for Waiver” filed by Mitsubishi Electric and Electronics USA, Inc. (MEUS) is hereby granted as set forth in the paragraphs below.

(2) MEUS shall not be required to test or rate the water source WR2 and WY CITY MULTI Variable Refrigerant Flow Zoning System (VFRZ) products covered in this waiver on the basis of the currently applicable test procedure, but shall be required to test and rate its water source CITY MULTI VFRZ products covered in this waiver according to the alternate test procedure as set forth in paragraph (3).

(3) Alternate test procedure.

(A) MEUS shall be required to test its water source WR2 and WY CITY MULTI Variable Refrigerant Flow Zoning System (VFRZ) products according to those test procedures for central air conditioners and heat pumps prescribed by DOE at 10 CFR Part 431, except that:

(i) MEUS shall test a “tested combination” selected in accordance with the provisions of subparagraph (B) of this paragraph. For every other system combination using the same outdoor unit as[MR11] the tested combination, MEUS shall make representations concerning the WR2 and WY CITY MULTI products covered in this waiver according to the provisions of subparagraph (C) below.

(B) Tested combination. The term “tested combination” means a sample basic model comprised of units that are production units, or are representative of production units, of the basic model being tested. For the purposes of this waiver, the tested combination shall have the following features:

(i) The basic model of a variable refrigerant flow system used as a tested combination shall consist of an outdoor unit that is matched with between 2 and 5 indoor units.

(ii) The indoor units shall—

(a) Represent the highest sales volume type models;

(b) Together, have a capacity between 95% and 105% of the capacity of the outdoor unit;

(c) Not, individually, have a capacity greater than 50% of the capacity of the outdoor unit;

(d) Have a fan speed that is consistent with the manufacturer's specifications; and

(e) All have the same external static pressure.

(C) Representations. MEUS may make representations about the energy efficiency of CITY MULTI VRFZ products[MR15], for compliance, marketing, or other purposes, only to the extent that such representations are made consistent with the provisions outlined below:

(i) For CITY MULTI VRFZ combinations tested in accordance with the alternate test procedure, MEUS may make representations based on these test results.

(ii) For CITY MULTI VRFZ combinations that are not tested, MEUS may make representations which are based on the testing results for the tested combination and which are consistent with either of the two following methods, except that only method (a) may be used, if available:

(a) Representation of non-tested combinations according to an Alternative Rating Method (“ARM”) approved by DOE.

(b) Representation of non-tested combinations at the same energy efficiency level as the tested combination with the same outdoor unit.

V. Summary and Request for Comments

Today's notice announces a MEUS Petition for Waiver and grants MEUS an Interim Waiver from the test procedures applicable to MEUS's WR2 and WY water source CITY MULTI heat pump units. DOE is publishing the MEUS Petition for Waiver in its entirety. The petition contains no confidential information. Furthermore, today's notice includes an alternate test procedure that DOE is considering including in the final Decision and Order. In this alternate test procedure, DOE proposes defining a “tested combination” which MEUS could test in lieu of testing all retail combinations of its water source VRFZ CITY MULTI products. Furthermore, should a manufacturer not be able to test all retail combinations, DOE proposes allowing manufacturers to rate waived products according to an alternate rating method approved by DOE, or to rate waived products the same as that for the specified tested combination.

DOE will also consider applying a similar alternate test procedure to other comparable petitions for waiver for residential and commercial central air conditioners and heat pumps. Such cases include Samsung's petition for its DVM products (70 FR 9629, February 28, 2005), and Fujitsu's petition for its Airstage variable refrigerant flow (VRF) products (70 FR 5980, February 4, 2005).

DOE is interested in receiving comments on all aspects of this notice. Any person submitting written comments must also send a copy of such comments to the petitioner, whose contact information is cited above. 10 CFR 431.401(d)(2).

Issued in Washington, DC, on April 2, 2007.
Alexander A. Karsner,
Assistant Secretary, Energy Efficiency and Renewable Energy.

October 30, 2006.

The Honorable Alexander Karsner,

Assistant Secretary for Energy Efficiency and Renewable Energy, U.S. Department of Energy, 1000 Independence Ave, SW., Washington, DC 20585-0121.

Re: Petition for Waiver of Test Procedures and Application for Interim Waiver for CITY MULTI VRFZ Water-Source Heat Pumps

Dear Assistant Secretary Karsner: Mitsubishi Electric & Electronics USA, Inc. (MEUS) respectfully submits this petition for waiver, and application for interim waiver, of the test procedures applicable to the WR2 and WY Series models of MEUS's CITY MULTI Variable Refrigerant Flow Zoning (VRFZ) product line pursuant to the provisions of 10 CFR 431.401 (2006). The WR2 and WY models are water-source products.

The Department of Energy (DOE or Department) has previously granted a waiver and an interim waiver from the applicable air conditioner and heat pump test procedures for other models of MEUS's CITY MULTI products. On August 27, 2004, DOE granted a waiver from the commercial air conditioner and heat pump test procedures for MEUS's R22 CITY MULTI products, i.e., air-source CITY MULTI products using R22 as the refrigerant.⁵ In March 2006, the Department granted MEUS's application for interim waiver and published MEUS's petition for waiver for its R410A CITY MULTI models, i.e., air-source CITY MULTI products using R410A as the refrigerant.⁶

⁵ Energy Conservation Program for Consumer Products: Decision and Order Granting a Waiver From the DOE Commercial Package Air Conditioner and Heat Pump Test Procedure to Mitsubishi Electric (Case No. CAC-008), 69 FR 52660 (Aug. 27, 2004) (copy attached) (hereinafter, 2004 CITY MULTI Waiver).

⁶ Energy Conservation Program for Consumer Products: Publication of the Petition for Waiver and Granting of the Application for Interim Waiver of Mitsubishi Electric From the DOE Residential and Commercial Package Air Conditioner and Heat Pump Test Procedures (Case No. CAC-012), 71 FR 14858 (Mar. 24, 2006) (hereinafter, R410A Interim Waiver). On August 8, 2006, DOE published a notice correcting five of the model numbers in the interim waiver granted to MEUS and listed in MEUS's petition for waiver. Energy Conservation Program for Consumer Products: Notice of Correction of Petition for Waiver and Interim Waiver of Mitsubishi Electric From the DOE Residential and Commercial Package Air Conditioner and Heat Pump Test Procedures, and Modification of Interim Waiver, 71 FR 45047 (Aug. 8, 2006). As of the date of this letter, MEUS's petition for waiver for its R410A CITY MULTI models is still pending before DOE.

The products covered by this petition represent the models of the CITY MULTI product line that use water, as opposed to air, as a heat source and heat sink.⁷ Like the CITY MULTI products covered by the earlier waiver, the products covered by this petition cannot be tested according to the prescribed test procedures, and, therefore, should be granted a waiver from the applicable test procedures. MEUS simultaneously requests an interim waiver covering these WR2 and WY CITY MULTI products.

⁷ Like the current line of air source CITY MULTI products, the water-source WR2 and WY model lines also use R410A as the refrigerant.

I. Background

In the 2004 CITY MULTI Waiver, DOE found that the waiver should be granted because the CITY MULTI products have “one or more design characteristics which * * * prevent testing of the basic model according to the prescribed test procedures.” ⁸ MEUS's R22 products cannot be tested according to the prescribed test procedures for two reasons: (1) the test laboratories cannot test products with so many indoor units; and (2) there are too many possible combinations of indoor and outdoor units (well over 1,000,000 combinations for each outdoor unit), and it is impractical to test so many combinations.⁹ Pursuant to the 2004 CITY MULTI Waiver, MEUS is not required to test or rate its CITY MULTI Variable Refrigerant Flow Zoning system products listed on the basis of the currently applicable test procedures.¹⁰ In granting MEUS's request for an interim waiver for the R410A CITY MULTI products, DOE concluded that the R410A “systems will likely suffer the same testing problems that prompted the Department to grant MEUS the waiver for its R22 products.” ¹¹

⁸ 2004 CITY MULTI Waiver at 52662. See also 10 CFR 431.201(a)(1) (2005).

⁹ R410A Interim Waiver at 14860.

¹⁰ 2004 CITY MULTI Waiver at 52662.

¹¹ R410A Interim Waiver at 14861. The R410A CITY MULTI products are substitutes for the R22 CITY MULTI products that use the R410A refrigerant instead of the R22 refrigerant.

MEUS's WR2 and WY products represent the models of the CITY MULTI product line that are water-source heat pumps. The only difference between the WR2 and WY products, on the one hand, and the R410A products is the method of heat rejection. The WR2 and WY products have a heat source unit that uses water, instead of air, to reject heat. The indoor models, CITY MULTI Control Network, and system technology of the R410A products and the WR2 and WY models are identical. As a result, these products will face the same testing problems as those suffered by MEUS's R22 and R410A CITY MULTI products.

II. WR2/WY Model Design Characteristics

MEUS's line of CITY MULTI VRFZ system products combines advanced technologies and are complete, commercial zoning systems that save energy through the effective use of variable refrigerant control and distribution, zoning diversity, and system intelligence. The WR2 and WY systems have the capability of connecting a single heat source unit to up to 19 indoor units. This capability gives these systems tremendous installation flexibility with millions of potential system combinations.¹²

¹² MEUS offers 58 indoor models in its WR2/WY CITY MULTI product line. The number of potential combinations of the 58 models in sets of up to 19 is an astronomical figure.

The operating characteristics of a VRFZ system allow each indoor unit to have a different mode of operation (i.e., on/off/heat/cool/dry/auto/fan) and a different set temperature allowing great flexibility of operation. In the WR2 and WY models, the variable speed compressor and the system controls direct refrigerant flow throughout the system to precisely match the performance of the system to the load of the conditioned areas. The compressor is capable of reducing its operating capacity to as little as 16% of its rated capacity. Zone diversity enables these VRFZ systems to have a total connected indoor unit capacity of up to 150% of the capacity of the heat source unit.

The CITY MULTI VRFZ systems have variable frequency inverter driven scroll compressors, and, therefore, have nearly infinite steps of capacity. While other system compressors run at full load as their normal state, the CITY MULTI VRFZ systems run at part load as their normal state. The WR2 Series CITY MULTI products also offer consumers the option of simultaneous heating and cooling. These simultaneous heating and cooling systems achieve energy benefits by transferring heat recovered from one zone into another zone needing heat. Additionally, when the system switches between the heating and cooling modes, the direction of the cooling water flow remains the same; therefore, the compressor does not need to be shut down when switching modes.

MEUS's CITY MULTI VRFZ systems were designed to take into account the customers' specific needs for flexibility, variable conditioning, and operating energy savings. Since these products were first introduced in U.S. markets, the CITY MULTI systems have become an important part of MEUS sales. These systems have been well received in Asia, Europe, Latin America, and the United States because of their highly effective energy saving features. Through the use of highly advanced technology, the WR2 and WY CITY MULTI VRFZ systems offer cost-effective functionality and significant energy savings. The unique design and intelligence provided by the sophisticated direct digital control system allow the systems to use less energy than conventional systems to condition a given area, thus costing the customer less to operate.

Although these energy saving characteristics are not credited under current rules, they are precisely the types of technological innovations and applications that advance the Congressional intent of promoting energy savings. These CITY MULTI VRFZ systems represent a revolutionary advance in HVAC technology, well positioned to provide new and existing commercial buildings with effective use of energy and an operationally cost-effective source of heating and cooling. Additionally, with some of the innovative capabilities of the CITY MULTI Controls Network, the potential for energy management and energy savings are even greater. The CITY MULTI products' unique design characteristics are clearly consistent with U.S. government's efforts to encourage the availability of high performance products that consume less energy.

III. Test Procedures From Which Waiver Is Requested

MEUS's petition requests waiver from the applicable test procedures for its WR2 and WY CITY MULTI products. DOE's regulations provide the test procedures for small and large commercial package air conditioning and heating equipment.¹³ Pursuant to 10 CFR 431.96, the test procedures applicable to small commercial packaged air conditioning and heating water-source heat pumps, with capacities between 65,000 and 135,000 Btu/h, are those included in ISO Standard 13256-1 (1998).¹⁴ The capacities of MEUS's WR2 and WY CITY MULTI water-source products covered by this petition fall in that range. Therefore, MEUS requests waiver from ISO Standard 13256-1 (1998), as incorporated by reference in DOE's regulations.¹⁵

¹³ 10 CFR 431.96 (see Tables 1 and 2).

¹⁴ 10 CFR 431.96, Table 1.

¹⁵ While DOE's regulations do not provide specific definitions for water-source heat pumps and water-cooled air conditioners, pursuant to the definitions provided in ARI Standard 340/360—2000, Standard for Commercial and Industrial Unitary Air-Conditioning and Heat Pump Equipment, and in ISO Standard 13256-1 (1998), Water-source heat pumps—testing and rating for performance—Part I: Water-to-air and brine-to-air heat pumps, MEUS believes that ISO Standard 13256-1 (1998) contains the test procedures applicable to its WR2 and WY CITY MULTI water-source heat pump products. Note, however, that the rationale for granting the requested test procedure waiver is identical regardless of whether the applicable test procedure is ISO Standard 13256-1 or ARI Standard 340/360.

IV. Basic Models for Which Waiver Is Requested

MEUS requests a waiver from the test procedures for the basic models consisting of combinations of the following products: ¹⁶

¹⁶ The * denotes engineering differences in the models.

CITY MULTI Variable Refrigerant Flow Zoning System WR2-Series Heat Source Units:

• PQRY-P72TGMU-*, 72,000 Btu/h 208/230-3-60 split-system variable-speed heat pump

• PQRY-P96TGMU-*, 96,000 Btu/h 208/230-3-60 split-system variable-speed heat pump

CITY MULTI Variable Refrigerant Flow Zoning System WY-Series Heat Source Units:

• PQHY-P72TGMU-*, 72,000 Btu/h 208/230-3-60 split-system variable-speed heat pump

• PQHY-P96TGMU-*, 96,000 Btu/h 208/230-3-60 split-system variable-speed heat pump

CITY MULTI Variable Refrigerant Flow Zoning System Indoor Equipment:

• P*FY models, ranging from 6,000 to 96,000 Btu/h, 208/230-1-60 split-system variable-capacity heat pump.

• PCFY Series—Ceiling Suspended—PCFY-P12/18/24/30/36***-*

• PDFY Series—Ceiling Concealed Ducted—PDFY-P06/08/12/15/18/24/30/36/48***-*

• PEFY Series—Ceiling Concealed Ducted (Low Profile)—PEFY-P06/08/12***-*

• PEFY Series—Ceiling Concealed Ducted (Alternate High Static Option)—PEFY-P15/18/24/27/30/36/48/54/72/96***-*

• PEFY-F Series—Ceiling Concealed Ducted (100% Outside Air Ventilation Option)—PEFY-P 30/54/72/96***-*-*

• PFFY Series—Floor Standing (Concealed)—PFFY-P06/08/12/15/18/24***-*

• PFFY Series—Floor Standing (Exposed)—PFFY-P06/08/12/15/18/24***-*

• PKFY Series—Wall-Mounted—PKFY-P06/08/12/18/24/30***-*

• PLFY Series—4-Way Airflow Ceiling Cassette—PLFY-P12/18/24/30/36***-*

• PMFY Series—1-Way Airflow Ceiling Cassette—PMFY-P06/08/12/15***-*

V. Need for Waiver of Test Procedures

The Department's regulations contain provisions allowing a person to seek a waiver from the test procedure requirements for commercial equipment. These provisions are set forth in 10 CFR 431.401. The waiver provisions allow DOE to temporarily waive test procedures for a particular basic model when a petitioner shows that the basic model contains one or more design characteristics that prevent testing according to the prescribed test procedures, or when the prescribed test procedures may evaluate the basic model in a manner so unrepresentative of its true energy consumption as to provide materially inaccurate comparative data.¹⁷

¹⁷ 10 CFR 431.401(a)(1).

In the 2004 CITY MULTI Waiver, DOE found that MEUS's CITY MULTI products contained “one or more design characteristics which * * * prevent testing of the basic model according to the prescribed test procedures.”¹⁸ DOE granted MEUS's request for an interim waiver for the R410A CITY MULTI products because the R410A systems “will likely suffer the same testing problems” as the R22 products.¹⁹ The WR2 and WY models of CITY MULTI products have the same operational characteristics as the R22 CITY MULTI products, which have already been granted a waiver, and the R410A CITY MULTI products, which have been granted an interim waiver, except that the WR2 and WY models are water-source heat pumps. Therefore, the same design characteristics that prevent testing of the basic R22 and R410A CITY MULTI models also prevent testing of the WR2 and WY CITY MULTI models. Thus, similar to the R22 and R410A models, the WR2 and WY systems can connect more indoor units than the test laboratories can physically test at one time. Additionally, it is not practical to test all of the potentially available combinations, of which there are more than one million. Therefore, the same design characteristics that prevent testing of the basic R22 and R410A CITY MULTI models also prevent testing of the WR2 and WY CITY MULTI models.

¹⁸ 2004 CITY MULTI Waiver at 52662.

¹⁹ R410A Interim Waiver at 14861.

Specifically, in the 2004 CITY MULTI Waiver, DOE found that:

The current test procedures can be used to test all current commercial systems in the laboratory, but many VFRZ systems cannot be tested in the laboratory. Each VFRZ outdoor unit can be connected with up to sixteen separate indoor units in a zoned system. Existing test laboratories cannot test more than five indoor units at a time, and even that number is difficult.

A second difficulty is that MEUS offers 58 indoor unit models. Each of these indoor unit models is designed to be used with up to 15 other indoor units, which need not be the same models, in combination with a single outdoor unit. For each of the CITY MULTI VRFZ outdoor coils, there are well over 1,000,000 combinations of indoor coils that can be matched up in a system configuration, and it is highly impractical to test so many combinations.

There are therefore two major testing problems: (1) Test laboratories cannot test products with so many indoor units; and (2) there are too many possible combinations of indoor and outdoor units—only a small fraction of the combinations could be tested. These problems * * * support the * * * waiver criterion, that “the basic model contains one or more design characteristics which * * * prevent testing of the basic model according to the prescribed test procedures. * * *”²⁰

²⁰ ID. at 52661-61.

In granting an interim waiver for MEUS's R410A models, DOE stated that the R410A products “are quite similar to * * * MEUS's R22 CITY MULTI VRFZ products,”²¹ and that the R410A systems “will likely suffer the same testing problems that prompted the Department to grant MEUS the waiver for its R22 products.”²²

²¹ R410A Interim Waiver at 14860.

²² R410A Interim Waiver at 14861.

For the same reasons, the WR2 and WY models cannot be tested pursuant to the existing test procedures. Similar to the R22 and R410A models, the WR2 and WY systems can connect more indoor units than the test laboratories can physically test at one time. Each of the WR2 and WY indoor units is designed to be used with up to 18 other indoor units with each heat source unit. These connected indoor units need not be the same models—there are 58 different indoor models that can be combined in a multitude of different combinations to address customer needs. The testing laboratories will not physically be able to test many of the WR2 and WY system combinations because of the inability to test products with so many indoor units.

In addition, it is not practical to test all of the potentially available combinations. With the capability of potentially connecting a single heat source unit to up to 19 indoor units, the WR2 and WY units are designed to be combined in literally millions of different system configurations.²³ The test procedures provide no mechanism for sampling component combinations. Thus, the test procedures do not contemplate, and cannot practicably be applied to, the CITY MULTI VRFZ systems consisting of multiple assemblies that are intended to be used in a very large number of different combinations.

²³ Even for systems with 4 or fewer indoor units, which can technically be tested in the laboratories, there are far too many possible combinations to make testing practicable because there are 58 different indoor models that can be used in combination. For instance, selecting four indoor units from among 40 indoor model choices produces over one hundred thousand possible combinations.

As shown above, the WR2 and WY products cannot be tested according to the prescribed test procedures. MEUS also believes that the requested waiver is supported on the grounds that the test procedures “may evaluate the basic model in a manner so unrepresentative of its true energy consumption characteristics * * * as to provide materially inaccurate comparative data.”²⁴ In particular, the benefits of variable refrigerant control and distribution, zoning diversity, part load operation and simultaneous heating and cooling, as described in Section II above, are not credited under the current test procedures.

²⁴ 10 CFR 431.201(a)(1) (2005).

In any case, it should be noted that these CITY MULTI products employ advanced technologies and their marketing will advance the Energy Policy and Conservation Act's (EPCA) goal of promoting energy efficiency. Testing procedures should not inhibit the commercial success of these products in the United States. Without a waiver of the test procedures, MEUS will be at a competitive disadvantage in the market. Consumers have come to expect the availability of the CITY MULTI products in the U.S. marketplace, and a significant number of engineers and contractors are currently requesting these new WR2 and WY units for their projects because of the great advantages they offer. Thus, MEUS respectfully requests that DOE grant a waiver from the applicable test procedures to the products listed in Section IV.²⁵ MEUS plans to introduce these units into the U.S. market early in the first quarter of 2007, and, therefore, requests that DOE act on this request in a timely fashion.

²⁵ Pursuant to EPCA, MEUS will not make representations regarding the energy efficiency of the products covered by a waiver except as may be specifically authorized by DOE.

VI. Alternative Test Procedures

Currently, there are no test procedures known to MEUS that can accurately evaluate these products. However, in response to MEUS's petition for waiver for the R410A products, DOE proposed an alternate test procedure to provide a conservative basis from which manufacturers covered by a test procedure waiver for VRFZ products can test and make valid energy efficiency representations, for compliance, marketing, or other purposes, regarding these products.²⁶ MEUS requests that DOE apply a similar alternate test procedure for MEUS's WR2 and WY products in order to allow MEUS to test and make energy efficiency representations regarding these products.

²⁶ R410A Interim Waiver at 14861-3.

Manufacturers face restrictions with respect to making representations about the energy consumption and energy consumption costs of products covered by EPCA.²⁷ As DOE acknowledged in the R410A Interim Waiver, “consistent representations are important for manufacturers to make claims about the energy efficiency of their products.”²⁸ Manufacturers need the ability to make energy efficiency representations to determine compliance with state and local energy codes and regulatory requirements, and to provide consumers with valuable purchasing information. Therefore, MEUS respectfully requests that DOE apply the alternate test procedure described below.

²⁷ See 42 U.S.C. 6314(d); 42 U.S.C. 6293(c).

²⁸ R410A Interim Waiver at 14861.

The proposed alternate test procedure will permit MEUS to designate a “tested combination” for each model of heat source unit with parameters on the indoor units that can be used in the tested combination. This tested combination must be tested according to the applicable DOE test procedures. Additionally, the alternate test procedure will permit MEUS to represent the energy efficiency for a non-tested combination in three ways. MEUS may represent the energy efficiency of a non-tested combination: (1) at an energy efficiency level determined under a DOE-approved alternate rating method; (2) at the efficiency level of the tested combination utilizing the same heat source unit; or (3) at the DOE prescribed minimum efficiency level for the product class, assuming the tested combination meets or exceeds this minimum level.

Allowing MEUS to make energy efficiency representations for non-tested combinations that are consistent with any of the three methods described above is reasonable because the heat source unit is the principal efficiency driver. The alternate test procedure tends to rate these products very conservatively because it does not credit significant energy saving characteristics of these products. The multi-zoning feature of these products, which enables them to cool only those portions of the building that require cooling, uses less energy than if the whole building must be cooled when cooling is required. Additionally, the test procedure requires full load testing, which disadvantages these products because they are optimized for best efficiency when operating with less than full loads. In fact, these products normally operate at part-load conditions. Finally, the test procedure does not recognize the benefits of products capable of simultaneous heating and cooling, which is more efficient than requiring all zones to be either heated or cooled. Therefore, since the proposed alternate test procedure does not credit the savings from zoning, part-load operation, or simultaneous heating and cooling, it will provide a conservative basis for assessing the energy efficiency for such products.

MEUS requests that DOE apply the following proposed alternate test procedure, which is based on the one proposed in April 2006,²⁹ to MEUS's CITY MULTI WR2 and WY products:

²⁹ R410A Interim Waiver at 14861-3.

Alternate Test Procedure

(A) MEUS shall be required to test the products listed above according to the test procedures provided for in 10 CFR 431.96, except that:

(i) MEUS may test a “tested combination” selected in accordance with the provisions of subparagraph (B) of this paragraph. For every other system combination using the same heat source unit as the tested combination, MEUS shall make representations concerning the WR2 and WY CITY MULTI products covered in this waiver according to the provisions of subparagraph (C) below.

(B) Tested combination. The term “tested combination” means a sample basic model comprised of units that are production units, or are representative of production units, of the basic model being tested. For the purposes of this waiver, the tested combination shall have the following features:

(i) The basic model of a variable refrigerant flow system used as a tested combination shall consist of a heat source unit that is matched with between 2 and 5 indoor units.

(ii) The indoor units shall—

(a) Represent the highest sales volume type models;

(b) Together, have a capacity between 95% and 105% of the capacity of the heat source unit;

(c) Not, individually, have a capacity greater than 50% of the capacity of the heat source unit;

(d) Have a fan speed that is consistent with the manufacturer's specifications; and

(e) All have the same external static pressure.

(C) Representations. MEUS may make representations about the energy efficiency of WR2 and WY CITY MULTI VRFZ products, for compliance, marketing, or other purposes, only to the extent that such representations are made consistent with the provisions outlined below:

(i) For WR2 and WY CITY MULTI VRFZ combinations tested in accordance with this paragraph, MEUS may make representations based on these test results.

(ii) For WR2 and WY CITY MULTI VRFZ combinations that are not tested, MEUS may make representations which are based on the testing results for the tested combination and which are consistent with any of the three following methods:

(a) Representation of non-tested combinations according to an Alternative Rating Method (“ARM”) approved by DOE.

(b) Representation of non-tested combinations at the same energy efficiency level as the tested combination with the same heat source unit.

(c) Representation of non-tested combinations at the DOE prescribed minimum efficiency level for the product class if the tested combination using the same heat source unit meets or exceeds that level.

VII. Similar Products

To the best of our knowledge, water-source VRFZ products are also offered in the United States by Daikin U.S. Corporation. This manufacturer, however, has incorporated a different technology to achieve variable refrigerant flow.

VIII. Application for Interim Waiver

Pursuant to 10 CFR 431.401(a)(2), MEUS also submits an application for interim waiver of the applicable test procedures for the WR2 and WY CITY MULTI models listed above. DOE's regulations contain provisions allowing DOE to grant an interim waiver from the test procedure requirements to manufacturers that have petitioned the Department for a waiver of such prescribed test procedures.³⁰ As DOE has previously stated, “an Interim Waiver will be granted if it is determined that the applicant will experience economic hardship if the Application for Interim Waiver is denied, if it appears likely that the Petition for Waiver will be granted, and/or the Assistant Secretary determines that it would be desirable for public policy reasons to grant immediate relief pending a determination for the Petition for Waiver.”³¹ MEUS will experience economic hardship if the application for interim waiver is denied. Additionally, precedent indicates that DOE will likely grant MEUS's petition for waiver. Finally, it is in the public interest to grant an interim waiver. Therefore, MEUS respectfully requests DOE to grant the application for interim waiver.

³⁰ 10 CFR 431.401(a)(2).

³¹ Energy Conservation Program for Consumer Products: Publication of the Petition for Waiver and Granting of the Application for Interim Waiver of Samsung Air Conditioning From the DOE Residential and Commercial Package Air Conditioner and Heat Pump Test Procedures (Case No. CAC-009), 70 FR 9629, at 9630 (Feb. 28, 2005) (Samsung Interim Waiver). See 10 CFR 431.201(e)(3) (2005). See also R410A Interim Waiver at 14860.

MEUS plans to introduce the new WR2 and WY products into the U.S. market early in the first quarter of 2007. The procedure for granting a petition for waiver is a time-consuming process—DOE must publish the petition in the Federal Register, allow time for public comment, and then consider any comments before it makes a decision. Thus, the process typically takes a number of months. If an interim waiver is not granted, MEUS will suffer economic hardship because MEUS will be required to delay its introduction of these products to U.S. customers.

In addition, DOE will likely grant MEUS's petition for waiver. As described above, the design characteristics which prevented testing of the basic model of the products listed in the 2004 CITY MULTI Waiver and the R410A Interim Waiver are present for the new WR2 and WY models as well. The best evidence that DOE is likely to grant this waiver petition is the fact that it granted a similar petition in the 2004 CITY MULTI Waiver, and granted an interim waiver for the R410A products on the basis that “it appears likely that the [R410A] Petition for Waiver will be granted.”³² DOE also granted an interim waiver to Samsung Air Conditioning in 2005 stating that Samsung's petition would likely be granted because Samsung's products are quite similar to the MEUS's CITY MULTI products, for which DOE already granted a waiver.³³

³² R410A Interim Waiver at 14860.

³³ Samsung Interim Waiver at 9630.

Finally, DOE's regulations state that the Assistant Secretary may grant an interim waiver if he determines that it would be desirable for public policy reasons to grant immediate relief pending a determination for the Petition for Waiver. In response to MEUS's Application for Interim Waiver for its R410A products, DOE stated that “in those instances where the likely success of the Petition for Waiver has been demonstrated, based upon DOE having granted a waiver for a similar product design, it is in the public interest to have similar products tested and rated for energy consumption on a comparable basis.”³⁴ MEUS's WR2 and WY CITY MULTI products are similar to the R22 and R410A CITY MULTI products, as well as the products for which Samsung Air Conditioning and Fujitsu General Limited were granted interim waivers,³⁵ and they will suffer the same testing obstacles as those products.

³⁴ R410A Interim Waiver at 14860. DOE made the same statement in the Samsung Interim Waiver, concluding that “in those instances where the likely success of the Petition for Waiver has been demonstrated, based upon DOE having granted a waiver for a similar product design, it is in the public interest to have similar products tested and rated for energy consumption on a comparable basis.” 70 FR at 9630.

³⁵ Samsung Interim Waiver; Energy Conservation Program for Consumer Products: Publication of the Petition for Waiver of Fujitsu General Limited From the DOE Residential Air Conditioner and Heat Pump Test Procedures (Case No. CAC-010), 70 FR 5980 (Feb. 4, 2005).

Therefore, since it is in the public interest to have similar products tested and rated on a comparable basis, DOE should grant MEUS's Application for Interim Waiver.

IX. Conclusion

MEUS seeks a waiver of the applicable test procedures for the products listed in Section IV above. Such a waiver is necessary because the basic WR2 and WY CITY MULTI models “contain[] one or more design characteristics which * * * prevent testing of the basic model according to the prescribed test procedures.” ³⁶ MEUS respectfully asks the Department of Energy to grant a waiver from existing test standards until such time as an appropriate test procedure is developed and adopted for this class of products. MEUS expects to continue working with ARI and DOE to develop appropriate test procedures.

³⁶ 10 CFR 431.201(a)(1) (2005).

MEUS further requests DOE to grant its request for an interim waiver while its Petition for Waiver is pending.

If you have any questions or would like to discuss this request, please contact Paul Doppel, at (678) 376-2923, or Douglas Smith at (202) 298-1902. We greatly appreciate your attention to this matter.

Sincerely,

William Rau,

Senior Vice President and General Manager, HVAC Advanced Products Division, Mitsubishi Electric & Electronics USA, Inc., 4300 Lawrenceville-Suwanee Road, Suwanee, GA 30024.

Mitsubishi Electric

Mitsubishi Electric & Electronics USA, Inc.

HVAC Advanced Products Division 3400 Lawrenceville-Suwanee Road, Suwanee, GA 30024

CERTIFICATE

I hereby certify that I have this day served the foregoing Petition for Waiver and Application for Interim Waiver upon the following company known to Mitsubishi Electric & Electronics USA, Inc. to currently market systems in the United States which appear to be similar to the WR2 and WY CITY MULTI VRFZ system design. I have notified this manufacturer that the Assistant Secretary for Energy Efficiency and Renewable Energy will receive and consider timely written comments on the Application for Interim Waiver.

Daikin AC (Americas), Inc.,

1645 Wallace Drive, Suite 110, Carrollton, TX 75006, Attn: Mike Bregenzer, VP and GM.

Dated this 30th day of October 2006.

William Rau,

Senior Vice President and General Manager, HVAC Advanced Products Division, Mitsubishi Electric & Electronics USA, Inc., 3400 Lawrenceville-Suwanee Road, Suwanee, GA 30024.

[FR Doc. E7-6628 Filed 4-6-07; 8:45 am]

BILLING CODE 6450-01-P